NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until November 20, 2006.

ADDRESSES: Interested parties are invited to submit written comments to NCUA Clearance Officer listed below:

Clearance Officer: Mr. Neil McNamara, National Credit Union Administration, 1775 Duke Street, Alexandria, VA 22314-3428, fax no. 703-837-2861, e-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0129.

Form Number: None.

Type of Review: Reinstatement, with change, of a previously approved collection.

Title: Corporate Credit Unions.

Description: Part 704 of NCUA's Rules and Regulations direct corporate credit unions to maintain records concerning their activities.

Respondents: Corporate credit unions.

Estimated No. of Respondents/Recordkeepers: 31.

Estimated Burden Hours Per Response: 2,434 hours.

Frequency of Response: Reporting, recordkeeping, on occasion, monthly, quarterly and annually.

Estimated Total Annual Burden Hours: 75,454 hours.

Estimated Total Annual Cost: $1,937,996.

By the National Credit Union Administration Board on October 10, 2006.
Mary Rupp,
Secretary of the Board.

[FR Doc. E6-17600 Filed 10-19-06; 8:45 am]

BILLING CODE 7535-01-P